DEPARTMENT OF LABOR

Mine Safety and Health Administration

Petitions for Modification

AGENCY: Mine Safety and Health Administration, Labor.

ACTION: Correction Notice.

SUMMARY: This is a correction to a notice of petitions for modification of existing safety standards that was published in the Federal Register on May 30, 2008 (73 FR 31149). In the notice we inadvertently listed the company name as TJS Mining Company, Inc., for petition for modification, docket number M-2008-024-C. The correct company name is the Penn View Mining Company, Inc., TJS #6 Mine, MSHA Mine I.D. 36-09464.

Dated: May 30, 2008.
Jack Powasnik,
Deputy Director, Office of Standards, Regulations, and Variances.

[FR Doc. E8-12597 Filed 6-4-08; 8:45 am]

BILLING CODE 4510-43-P